DEPARTMENT OF LABOR

Employment and Training Administration

Comment Request for Information Collection for the Reemployment and Eligibility Assessments (REA) Reports, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the continuation of the collection of data about the reemployment and eligibility assessments report beyond the current expiration date of 10/31/2012.

DATES: Written comments must be submitted to the office listed in the addresses section below on or before October 12, 2012.

ADDRESSES: Submit written comments to Diane Wood, U.S. Department of Labor, Employment and Training Administration, Office of Workforce Security, 200 Constitution Avenue NW., Frances Perkins Bldg. Room S-4524, Washington, DC 20210, telephone number (202) 693-3212 (this is not a toll-free number) or by email: wood.diane@dol.gov. Individuals with hearing or speech impairments may access the telephone number above via TTY by calling the toll-free Federal Information Relay Service at 1-877-889-5627. A copy of the proposed information collection request (ICR) can be obtained by contacting the office listed above.

SUPPLEMENTARY INFORMATION:

I. Background

The REA program addresses the reemployment needs of UI claimants and is used to detect and prevent improper payments in the Unemployment Insurance (UI) program, both of which are high priorities for ETA. The REA program connects UI claimants with reemployment and training services through the workforce investment system by linking them to services in American Job Centers. The REA program brings claimants into American Job Centers where they are provided a full array of available services, and ensures that claimants meet and comply with all UI eligibility requirements. For many individuals, the UI program provides an entry point into this reemployment service delivery system. Individuals filing UI claims are active job seekers who, through the state's REA program, are made aware of the variety of available reemployment services and referred to those that are appropriate for them. In FY 2012, forty-two states are participating in the REA program for claimants filing for regular UI claims and all states are providing an REA for claimants in the Emergency Unemployment Compensation program.

The Department is seeking to extend an information collection concerning state activities and results around the Reemployment and Eligibility Assessments program. The information collected from these REAs is used to evaluate state performance in terms of service delivery, to better understand program dynamics, and to gather data to report on REAs, including the number of scheduled in-person reemployment and eligibility assessments, the number of individuals who failed to appear for scheduled assessments, actions taken as a result of individuals not appearing for an assessment (e.g., benefits terminated), results of assessments (e.g., referred to reemployment services, found in compliance with program requirements), estimated savings resulting from cessation of benefits, and estimated savings as a result of accelerated reemployment.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Reemployment and Eligibility Assessments.

OMB Number: 1205-0456.

Affected Public: State Workforce Agencies.

Form(s): ETA 9128U, ETA9128 and ETA 9129.

Data collection activity | Number of respondents | Frequency | Total responses | Average time per response (hours) | Burden hours
9128 | 42 | Quarterly | 168 | 0.5 | 84
9129 | 42 | Quarterly | 168 | 0.5 | 84
9128U | 53 | Quarterly | 212 | 0.5 | 106
Unduplicated totals | 53 |  | 548 |  | 274

Total Annual Burden Cost for Respondents: There are no annualized costs to respondents.

Comments submitted in response to this comment request will be summarized and/or included in the request for OMB approval of the ICR; they will also become a matter of public record.

Dated: Signed in Washington, DC, on this 6th day of August, 2012.
Jane Oates,
Assistant Secretary for Employment and Training, Labor.

[FR Doc. 2012-19704 Filed 8-10-12; 8:45 am]

BILLING CODE 4510-FW-P